DEPARTMENT OF TRANSPORTATION

Federal Aviation Administration

14 CFR Part 39

[Docket No. FAA-2016-9144; Directorate Identifier 2016-SW-014-AD; Amendment 39-18667; AD 2016-20-01]

RIN 2120-AA64

Airworthiness Directives; Bell Helicopter Textron Canada Limited (Bell) Helicopters

AGENCY: Federal Aviation Administration (FAA), Department of Transportation (DOT).

ACTION: Final rule; request for comments.

SUMMARY: We are adopting a new airworthiness directive (AD) for Bell Model 427 and Model 429 helicopters. This AD requires replacing certain engine and transmission oil check valves. This AD also prohibits installing the affected check valves on any helicopter. This AD is prompted by a report of several cracked or leaking check valves. These actions are intended to detect and prevent a cracked or leaking check valve which could result in loss of lubrication to the engine or transmission, failure of the engine or transmission, and subsequent loss of control of the helicopter.

DATES: This AD becomes effective October 17, 2016.

We must receive comments on this AD by November 29, 2016.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov by searching for and locating Docket No. FAA-2016-9144; or in person at the Docket Operations Office between 9 a.m. and 5 p.m., Monday through Friday, except Federal holidays. The AD docket contains this AD, the Transport Canada AD, the economic evaluation, any comments received, and other information. The street address for the Docket Operations Office (telephone 800-647-5527) is in the ADDRESSES section. Comments will be available in the AD docket shortly after receipt.

For service information identified in this final rule, contact Bell Helicopter Textron Canada Limited, 12,800 Rue de l'Avenir, Mirabel, Quebec J7J1R4; telephone (450) 437-2862 or (800) 363-8023; fax (450) 433-0272; or at http://www.bellcustomer.com/files/. You may review the referenced service information at the FAA, Office of the Regional Counsel, Southwest Region, 10101 Hillwood Pkwy., Room 6N-321, Fort Worth, TX 76177.

FOR FURTHER INFORMATION CONTACT: Rao Edupuganti, Aviation Safety Engineer, Regulations and Policy Group, Rotorcraft Directorate, FAA, 10101 Hillwood Pkwy., Fort Worth, TX 76177; telephone (817) 222-5110; email rao.edupuganti@faa.gov.

SUPPLEMENTARY INFORMATION:

Comments Invited

This AD is a final rule that involves requirements affecting flight safety, and we did not provide you with notice and an opportunity to provide your comments prior to it becoming effective. However, we invite you to participate in this rulemaking by submitting written comments, data, or views. We also invite comments relating to the economic, environmental, energy, or federalism impacts that resulted from adopting this AD. The most helpful comments reference a specific portion of the AD, explain the reason for any recommended change, and include supporting data. To ensure the docket does not contain duplicate comments, commenters should send only one copy of written comments, or if comments are filed electronically, commenters should submit them only one time. We will file in the docket all comments that we receive, as well as a report summarizing each substantive public contact with FAA personnel concerning this rulemaking during the comment period. We will consider all the comments we receive and may conduct additional rulemaking based on those comments.

Discussion

On December 7, 2015, Transport Canada issued AD No. CF-2015-29 to correct an unsafe condition for certain serial-numbered Bell Model 427 and Model 429 helicopters. Transport Canada advises that part numbered 209-062-520-001 check valves manufactured by Circor Aerospace as replacement parts have been found cracked or leaking on several helicopters. According to Transport Canada, these check valves are used in the lubrication systems of the Model 429 engines and main rotor transmission and the Model 427 engines. Finally, Transport Canada advises that loss of lubrication may cause catastrophic failure of the transmission or the engine, which could result in loss of control of the helicopter.

Transport Canada AD No. CF-2015-29 requires a one-time inspection of the transmission and engine check valves for cracks and leaks. If there is a crack or leaking fluid, the Transport Canada AD requires replacing the check valve before further flight. Otherwise, the Transport Canada AD requires replacing each check valve within 60 days for the main rotor transmission and one year for the engine with a check valve marked “TQL” as shown in the manufacturer's service bulletins. The Transport Canada AD also prohibits installing a part number (P/N) 209-062-520-001 check valve on any helicopter if the check valve was manufactured by Circor Aerospace, marked “Circle Seal,” and manufactured between October 2011 and March 2015.

FAA's Determination

These helicopters have been approved by the aviation authority of Canada and are approved for operation in the United States. Pursuant to our bilateral agreement with Canada, Transport Canada, its technical representative, has notified us of the unsafe condition described in its AD. We are issuing this AD because we evaluated all information provided by Transport Canada and determined the unsafe condition exists and is likely to exist or develop on other helicopters of these same type designs.

Related Service Information

We reviewed Bell Alert Service Bulletin (ASB) 427-15-37 for Model 427 helicopters and Bell ASB 429-15-23 for Model 429 helicopters, both dated September 4, 2015. Both ASBs describe procedures for inspecting and replacing the check valve, P/N 209-062-520-001, installed on certain serial-numbered Model 427 and Model 429 helicopters.

AD Requirements

This AD requires, within 25 hours time-in-service (TIS), replacing the transmission and engine oil check valves.

This AD also prohibits installing a check valve P/N 209-062-520-001 that was manufactured by Circor Aerospace, marked “Circle Seal,” and marked with a manufacturing date code of “10/11” (October 2011) through “03/15” (March 2015) on any helicopter.

Differences Between This AD and the Transport Canada AD

The Transport Canada AD requires inspecting the valves for cracks and leaks to determine when they must be replaced. This AD requires replacing all check valves within 25 hours TIS.

Costs of Compliance

We estimate that this AD affects 105 (29 Model 427 and 76 Model 429) helicopters of U.S. Registry.

We estimate that operators may incur the following costs in order to comply with this AD. At an average labor rate of $85, replacing each check valve (transmission or engine) will require about 1 work-hour, and required parts will cost $85. For the Model 427, we estimate a total cost of $170 per helicopter and $4,930 for the U.S. fleet. For the Model 429, we estimate a total cost of $340 per helicopter and $25,840 for the U.S. fleet. According to Bell's service information some of the costs of this AD may be covered under warranty, thereby reducing the cost impact on affected individuals. We do not control warranty coverage by Bell. Accordingly, we have included all costs in our cost estimate.

FAA's Justification and Determination of the Effective Date

Providing an opportunity for public comments prior to adopting these AD requirements would delay implementing the safety actions needed to correct this known unsafe condition. Therefore, we find that the risk to the flying public justifies waiving notice and comment prior to the adoption of this rule because the actions required by this AD must be accomplished within 25 hours TIS, a very short interval for helicopters used in offshore transportation.

Since an unsafe condition exists that requires the immediate adoption of this AD, we determined that notice and opportunity for public comment before issuing this AD are impracticable and that good cause exists for making this amendment effective in less than 30 days.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national Government and the States, or on the distribution of power and responsibilities among the various levels of government.

For the reasons discussed, I certify that this AD:

1. Is not a “significant regulatory action” under Executive Order 12866;

2. Is not a “significant rule” under DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-20-01 Bell Helicopter Textron Canada Limited (Bell): Amendment 39-18667; Docket No. FAA-2016-9144; Directorate Identifier 2016-SW-014-AD.

(a) Applicability

This AD applies to Bell Model 427 and 429 helicopters, certificated in any category, with an engine and transmission oil check valve part number (P/N) 209-062-520-001 manufactured by Circor Aerospace, marked “Circle Seal” and with a manufacturing date code of “10/11” (October 2011) through “03/15” (March 2015), installed.

(b) Unsafe Condition

This AD defines the unsafe condition as a cracked or leaking check valve. This condition, if not detected and corrected, could result in loss of lubrication to the engine or transmission, failure of the transmission or engine, and loss of control of the helicopter.

(c) Effective Date

This AD becomes effective October 17, 2016.

(d) Compliance

You are responsible for performing each action required by this AD within the specified compliance time unless it has already been accomplished prior to that time.

(e) Required Actions

(1) Within 25 hours time-in-service:

(i) Replace each transmission oil check valve.

(ii) For Model 429 helicopters, replace each engine oil check valve.

(2) After the effective date of this AD, do not install any check valve P/N 209-062-520-001 manufactured by Circor Aerospace, marked “Circle Seal” and with a manufacturing date code of “10/11” (October 2011) through “03/15” (March 2015), on any helicopter.

(f) Alternative Methods of Compliance (AMOCs)

(1) The Manager, Safety Management Group, FAA, may approve AMOCs for this AD. Send your proposal to: Rao Edupuganti, Aviation Safety Engineer, Regulations and Policy Group, Rotorcraft Directorate, FAA, 10101 Hillwood Pkwy., Fort Worth, TX 76177; telephone (817) 222-5110; email 9-ASW-FTW-AMOC-Requests@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

(1) Bell Alert Service Bulletin (ASB) 427-15-37 for Model 427 helicopters and Bell ASB 429-15-23 for Model 429 helicopters, both dated September 4, 2015, which are not incorporated by reference, contain additional information about the subject of this final rule. For service information identified in this final rule, contact Bell Helicopter Textron Canada Limited, 12,800 Rue de l'Avenir, Mirabel, Quebec J7J1R4; telephone (450) 437-2862 or (800) 363-8023; fax (450) 433-0272; or at http://www.bellcustomer.com/files/. You may review a copy of the service information at the FAA, Office of the Regional Counsel, Southwest Region, 10101 Hillwood Pkwy., Room 6N-321, Fort Worth, TX 76177.

(2) The subject of this AD is addressed in Transport Canada AD No. CF-2015-29, dated December 7, 2015. You may view the Transport Canada AD on the Internet at http://www.regulations.gov by searching for and locating it in Docket No. FAA-2016-9144.

(h) Subject

Joint Aircraft Service Component (JASC) Code: 6300 Engine and Transmission Lubrication System.

Issued in Fort Worth, Texas, on September 16, 2016.
Scott A. Horn,
Acting Manager, Rotorcraft Directorate, Aircraft Certification Service.

[FR Doc. 2016-23345 Filed 9-29-16; 8:45 am]

BILLING CODE 4910-13-P